DEPARTMENT OF THE INTERIOR

Bureau of Land Management

[NV-930-1430-ES; N-66131)

Realty Action: Lease/Purchase for Recreation and Public Purposes in Lincoln County, NV.

AGENCY: Bureau of Land Management.

ACTION: Notice of Realty Action

SUMMARY: The following described public land in Lincoln County, Nevada has been identified and examined and will be classified under Section 7 of the Act of June 28, 1934 (48 Stat. 1272), as amended (43 U.S.C. 315f), as suitable for lease/purchase under the Recreation and Public Purposes Act of June 14, 1926, as amended (43 U.S.C. 869 et seq.). The described lands are hereby classified as suitable for lease/purchase under the authority of Section 212 of the Act of October 21, 1976; 43 U.S.C. 1761.

DATES: On or before March 20, 2000, interested parties may submit comments regarding the proposed Conveyance for classification of the lands to the Assistant Field, Nonrenewable Resources.

ADDRESSES: Written Comments should be addressed to: Bureau of Land Management, Gene L. Drais Assistant Field Manager, Nonrenewable Resources, HC 33 Box 33500, Ely, NV 89301-9408.

FOR FURTHER INFORMATION CONTACT: Kevin Finn, Realty Specialist, at the above address or telephone (775) 289-1849.

SUPPLEMENTARY INFORMATION: The following described parcel of land, situated in Lincoln County is being offered for lease/purchase under the Recreation and Public Purposes Act of June 14, 1926, as amended (43 U.S.C. 869 et seq.). Mount Diablo Meridian, Nevada T. 1 N., R. 67 E. sec. 22, NW¼ NE¼ NW¼ Containing 10 acres, more or less.

The lands are hereby classified for public purpose use as school sites and/or other school facilities, 43 CFR 2410, 2430.4(a) and (c). The Lincoln County School District intends to use the land to construct and operate a kindergarten through sixth grade school for residents in Pioche and surrounding areas. A right-of-way would also be acquired to access the proposed site. The lease and/or patent, when finalized, will be subject to the provisions of the Recreation and Public Purposes Act and applicable regulations of the Secretary of the Interior, and will contain the following reservations to the United States:

1. All valid existing rights documented on the official public land records at the time of lease/patent issuance.

2. A right-of-way thereon for ditches or canals constructed by the authority of the United States, Act of August 30, 1890 (43 U.S.C. 945).

3. All minerals shall be reserved to the United States, together with the right to prospect for, mine, and remove the minerals.

The land is not required for any federal purpose. The classification for lease/purchase is consistent with the Bureau's planning for this area. Detailed information concerning this action is available for review at the office of the Bureau of Land Management, Ely Field Office, HC 33 Box 33500, Ely, Nevada 89301.

Upon publication of this notice in the Federal Register, the above described land will be segregated from all other forms of appropriation under the public land law except for Recreation and Public Purposes.

Dated: February 8, 2000.
Eric K. Luse,
Associate Field Manager, Ely, NV.

[FR Doc. 00-4615 Filed 3-2-00; 8:45 am]

BILLING CODE 4310-HC-P